DEPARTMENT OF STATE

[Public Notice 8298]

U.S. Department of State Advisory Committee on Private International Law (ACPIL)—Online Dispute Resolution (ODR) Study Group

The Office of the Assistant Legal Adviser for Private International Law, Department of State, hereby gives notice that the ACPIL ODR Study Group will hold a public meeting. The ACPIL ODR Study Group will meet to discuss the next session of the UNCITRAL ODR Working Group, scheduled for May 20-24 in New York. This is not a meeting of the full Advisory Committee.

The UNCITRAL ODR Working Group is charged with the development of legal instruments for resolving both business to business and business to consumer cross-border electronic commerce disputes. The Working Group is in the process of developing generic ODR procedural rules for resolution of cross-border electronic commerce disputes, along with separate legal instruments that may take the form of annexes on guidelines and minimum requirements for online dispute resolution providers and arbitrators, substantive legal principles for resolving disputes, and a cross-border enforcement mechanism. One of the key issues that the working group is addressing is the identification of security issues relating to use of the ODR Rules, including measures to address the risk of fraud involving consumers who participate.

For the reports of the first five sessions of the UNCITRAL ODR Working Group—December 13-17, 2010, in Vienna (A/CN.9/716); May 23-27, 2011, in New York (A/CN.9/721); Nov. 14-18, 2011, in Vienna (A/CN.9/739); May 21-25, 2012, in New York (A/CN.9/744); and November 5-9, 2012, in Vienna (A/CN.9/762)—please follow the following link: http://www.uncitral.org/uncitral/commission/working_groups/3Online_Dispute_Resolution.html. Documents relating to the upcoming session of the Working Group are available on the same link.

Time and Place: The meeting of the ACPIL ODR Study Group will take place on Wednesday, May 8, 2013 from 10:00 a.m. to 1:00 p.m. EDT at 2430 E Street NW., South Building (SA 4) (Navy Hill), Room 240. Participants should arrive at Navy Hill before 9:45 a.m. for visitor screening. Participants will be met at the Navy Hill gate at 23rd and D Streets NW., and will be escorted to the South Building. Persons arriving later will need to make arrangements for entry using the contact information provided below. If you are unable to attend the public meeting and would like to participate from a remote location, teleconferencing will be available.

Public Participation: This meeting is open to the public, subject to the capacity of the meeting room.

Access to Navy Hill is strictly controlled. For pre-clearance purposes, those planning to attend in person are requested to email at PIL@state.gov or phone Tricia Smeltzer (202-776-8423) or Niesha Toms (202-776-8420) and provide your full name, address, date of birth, citizenship, driver's license or passport number, affiliation, and email address. This will greatly facilitate entry.

A member of the public needing reasonable accommodation should advise Ms. Smeltzer or Ms. Toms not later than May 3. Requests made after that date will be considered, but might not be able to be fulfilled. If you would like to participate by telephone, please contact Ms. Smeltzer or Ms. Toms to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Dated: April 15, 2013.
Michael Dennis,
Attorney-Adviser, Office of Private International Law, Office of the Legal Adviser, Department of State.

[FR Doc. 2013-09958 Filed 4-25-13; 8:45 am]

BILLING CODE 7410-08-P